DEPARTMENT OF HEALTH AND HUMAN SERVICES

Administration for Children and Families

Submission for OMB Review; Infant and Toddler Teacher and Caregiver Competencies (ITTCC) Study (New Collection)

AGENCY: Office of Planning, Research, and Evaluation, Administration for Children and Families, HHS.

ACTION: Request for public comment.

SUMMARY: This is a primary data collection request for the Infant and Toddler Teacher and Caregiver Competencies (ITTCC) study to examine, using qualitative case studies, different approaches to implementing competency frameworks and assessing competencies of teachers and caregivers of infants and toddlers who work in group early care and education (ECE) settings (centers and family child care homes). Each case study will focus on a specific competency framework used by states, institutions of higher education, professional organizations, or ECE programs. This study aims to present an internally valid description of the implementation of competency frameworks and assessment of competencies for up to seven purposively selected cases, not to promote statistical generalization to different sites or service populations.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The ITTCC study will examine implementation and assessment of competency frameworks at (1) the system level (that is, among those charged with creating a structure for and supporting implementation in states, institutions of higher education, and/or professional organizations); and (2) the program level (that is, in the center-based settings and family child care homes in which infant/toddler teachers and caregivers work). We will collect information on how competency frameworks have been developed and implemented; how competencies are assessed; how program directors, center directors, family child care providers, and teachers and caregivers use competency frameworks; key lessons related to implementing competency frameworks and assessing competencies; and perspectives on how competencies can help build the capacity of the workforce teaching and caring for infants and toddlers and support quality improvement.

Respondents: System-level staff (this may include lead developers, lead adopters, administrators for state/local quality improvement initiatives, administrators of licensing and/or credentialing agencies, higher education stakeholders, other training and technical assistance providers, state-level oversight of federal programs) and program-level staff (program and/or center directors, professional development coordinators/managers, center-based teachers/caregivers and family child care providers).

Annual Burden Estimates:

Instrument | Number of respondents (total over request period) | Number of responses per respondent (total over request period) | Average burden per response (in hours) | Total burden (in hours) | Annual burden (in hours)
System-Level Screening Protocol (Instrument 1) | 30 | 1 | .6 | 18 | 9
System-Level Master Semi-structured Interview Protocol (Instrument 2) | 60 | 1 | 1.5 | 90 | 45
Nominations for Programs Protocol (Instrument 3) | 15 | 1 | .3 | 4.5 | 2.25
Program-Level Screening Protocol (Instrument 4) | 70 | 1 | .6 | 42 | 21
Program-Level Master Semi-structured Interview Protocol (Instrument 5): Directors | 20 | 1 | 1 | 20 | 10
Program-Level Master Semi-structured Interview Protocol (Instrument 5): Family child care providers | 20 | 1 | 1 | 20 | 10
Program-Level Master Semi-structured Interview Protocol (Instrument 5): Center-based teachers | 20 | 1 | 0.5 | 10 | 5

Estimated Total Annual Burden Hours: 102.25.

Authority: Head Start Act Section 640 [42 U.S.C. 9835] and Section 649 [42 U.S.C. 9844], and the Child Care and Development Block Grant (CCDBG) Act of 1990, as amended by the CCDBG Act of 2014 (Pub. L. 113-186).

Mary B. Jones,
ACF/OPRE Certifying Officer.

[FR Doc. 2021-05100 Filed 3-10-21; 8:45 am]

BILLING CODE 4184-22-P